ENVIRONMENTAL PROTECTION AGENCY

40 CFR Part 52

[DC048-2022, MD096-3053, MD104-3057, MD106-3058, MD058-3036 & VA083-5038; FRL-6899-1]

Approval and Promulgation of Air Quality Implementation Plans; District of Columbia, Maryland, and Virginia; Metropolitan Washington D.C. Ozone Nonattainment Area; Extension of Comment Period

AGENCY: Environmental Protection Agency (EPA).

ACTION: Proposed rule; extension of the comment period.

SUMMARY: EPA is extending the comment period for a series of proposed rulemaking actions published on October 19, 2000. On this date, EPA proposed action on the following District of Columbia, Maryland, and Virginia provisions as revisions to their respective State Implementation Plans (SIP's): District of Columbia—Nitrogen Oxides Budget Program (65 FR 62679); Maryland—Nitrogen Oxides Budget Program (65 FR 62677), Nitrogen Oxides Reduction and Trading Program (65 FR 62671), and Reasonably Available Control Technology for Oxides of Nitrogen (65 FR 62668); and Maryland and Virginia—Post-1996 Rate of Progress Plan for the Metropolitan Washington, D.C. Ozone Nonattainment Area (65 FR 62658).

DATES: Comments must be received on or before November 20, 2000.

ADDRESSES: Comments may be mailed to David L. Arnold, Chief, Ozone and Mobile Sources Branch, Mailcode 3AP21, U.S. Environmental Protection Agency, Region III, 1650 Arch Street, Philadelphia, Pennsylvania 19103.

FOR FURTHER INFORMATION CONTACT: 1. District of Columbia—Nitrogen Oxides Budget Program; Maryland—Nitrogen Oxides Budget Program, and Maryland—Nitrogen Oxides Reduction and Trading Program: Cristina Fernandez, U.S. EPA Region III, (215) 814-2178.

2. Maryland—Reasonably Available Control Technology for Oxides of Nitrogen: Kelly Bunker, U.S. EPA Region III, (215) 814-2177.

3. Maryland and Virginia—Post-1996 Rate of Progress Plan for the Metropolitan Washington, D.C. Ozone Nonattainment Area: Janice Lewis, U.S. EPA Region III, (215) 814-2185, or Christopher Cripps at (215) 814-2179.

Dated: October 31, 2000.
Bradley M. Campbell,
Regional Administrator, Region III.

[FR Doc. 00-28706 Filed 11-8-00; 8:45 am]

BILLING CODE 6560-50-P